DEPARTMENT OF ENERGY

Federal Energy Regulatory Commission

[Docket Nos. EG05-83-000, EG05-84-000, EG05-85-000, EG05-86-000, EG05-87-000]

G-Flow Wind, LLC; Green Acres Breeze, LLC; Minnesota Breeze, LLC; Wolf Wind Enterprises, LLC; Sunset Breeze, LLC; Notice of Applications for Commission Determination of Exempt Wholesale Generator Status

July 15, 2005.

Take notice that on July 8 and 11, 2005, G-Flow Wind, LLC, Green Acres Breeze, LLC, Minnesota Breeze, LLC, Wolf Wind Enterprises, LLC and Sunset Breeze, LLC, (collectively, Applicants), filed with the Commission applications for determination of exempt wholesale generator status pursuant to part 365 of the Commission's regulations.

Applicants state they are a Minnesota limited liability companies and will be engaged directly and exclusively in the business of owning all or part of one or more eligible facilities, and selling energy at wholesale. Applicants further state that they are developing a 125 MW wind power generation facility to be located in Nobles County, Minnesota. The Applicants further state that the project will be an eligible facility pursuant to section 32(a)(2) of the PUHCA.

Applicants state that a copy of the filings have been served on the Minnesota Public Utility Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on July 29, 2005.

Linda Mitry,
Deputy Secretary.

[FR Doc. E5-3888 Filed 7-20-05; 8:45 am]

BILLING CODE 6717-01-P